DEPARTMENT OF THE INTERIOR

Bureau of Indian Affairs

[190A2100DD/AAKC001030/A0A501010.999900 253G; OMB Control Number 1076-0018]

Agency Information Collection Activities; Submission to the Office of Management and Budget for Review and Approval; Bureau of Indian Education Tribal Colleges and Universities; Application for Grants and Annual Report Form

AGENCY: Bureau of Indian Affairs, Interior.

ACTION: Notice of information collection; request for comment.

SUMMARY: In accordance with the Paperwork Reduction Act of 1995, we, the Bureau of Indian Education (BIE) are proposing to renew an information collection with revisions.

DATES: Interested persons are invited to submit comments on or before November 23, 2018.

ADDRESSES: Send written comments on this information collection request (ICR) to the Office of Management and Budget's Desk Officer for the Department of the Interior by email at OIRA_Submission@omb.eop.gov; or via facsimile to (202) 395-5806. Please provide a copy of your comments to Dr. Katherine Campbell, Program Analyst, Office of Research, Policy and Post-Secondary, at 12220 Sunrise Valley Drive, Reston, VA 20191 or by email to Katherine.Campbell@bie.edu. Please reference OMB Control Number 1076-0018 in the subject line of your comments.

FOR FURTHER INFORMATION CONTACT: To request additional information about this ICR, contact Dr. Katherine Campbell by email at Katherine.Campbell@bie.edu, or by telephone at (703) 390-6697. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 9, 2018 (83 FR 15172). No comments were received.

We are again soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Each tribally-controlled college or university requesting financial assistance under the Tribally Controlled Colleges and Universities Assistance Act of 1978 (the Act) (25 U.S.C. 1801 et seq.), which provides grants to Tribally Controlled Colleges or Universities for the purpose of ensuring continued and expanded educational opportunities for Indian students. Similarly, each Tribally Controlled College or University that receives financial assistance is required by Sec. 107(c)(1) of the Act and 25 CFR 41 to provide a report on the use of funds received.

Additionally, BIE will be combining information collection OMB 1076-0105 with this collection because both collections are elements of the same grant program. OMB 1076-0105 covered the reporting element of the grant program. Each Tribally-controlled college or university that receives financial assistance under the Act is required by Sec. 107(c)(1) of the Act and 25 CFR 41 to provide a report on the use of funds received.

Title of Collection: Bureau of Indian Education Tribal Colleges and Universities; Application for Grants and Annual Report Form.

OMB Control Number: 1076-0018.

Form Number: BIE-62107, BIE-6259, BIE Form 22, and the Third Week Monitoring Form.

Type of Review: Revision of a currently approved collection.

Respondents/Affected Public: Tribal college and university administrators.

Total Estimated Number of Annual Respondents: 29 per year, on average.

Total Estimated Number of Annual Responses: 29 per year, on average.

Estimated Completion Time per Response: Varies from 1 hour to 11 hours.

Total Estimated Number of Annual Burden Hours: 870 hours.

Respondent's Obligation: Required to Obtain a Benefit.

Frequency of Collection: Annually.

Total Estimated Annual Nonhour Burden Cost: $0.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2018-23180 Filed 10-23-18; 8:45 am]

BILLING CODE 4337-15-P